DEPARTMENT OF THE INTERIOR

Office of Surface Mining Reclamation and Enforcement

30 CFR Part 816

[Docket ID: OSM-2025-0025 S1D1S SS08011000 SX064A000 256S180110; S2D2S SS08011000 SX064A000 25XS501520]

RIN 1029-AD03

Backfilling and Grading

AGENCY: Office of Surface Mining Reclamation and Enforcement, Interior.

ACTION: Direct final rule; delay of effective date.

SUMMARY: The Office of Surface Mining Reclamation and Enforcement (OSM) is delaying the effective date of the direct final rule “Backfilling and Grading,” published on November 28, 2025. The direct final rule rescinded a regulation that prescribed time and distance performance standards for the completion of rough backfilling and grading for surface mining operations, which was suspended by the Secretary of the Interior in 1992 but never removed from the Code of Federal Regulations. During the comment period, OSM received comments that require further review and consideration to determine whether they are significant adverse comments warranting a response, withdrawal, or modification of the final rule.

DATES: As of January 27, 2026, the effective date of the direct final rule published November 28, 2025, at 90 FR 54573 is delayed until March 30, 2026.

FOR FURTHER INFORMATION CONTACT: James Tyree, Chief, Division of Regulatory Support, (202) 208-4479, jtyree@osmre.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The direct final rule published at 90 FR 54573 included a 30-day public comment period that ended on December 29, 2025. The effective date of the direct final rule was January 27, 2026.

As explained in the direct final rule, the inoperative regulation intended to be removed in this rulemaking was, after a series of rule promulgations and lawsuits, suspended in 1992. 30 CFR 816.101 has not had any legal effect since 1992 but remained in the Code of Federal Regulations because OSM never completed the necessary steps to remove the language.

The Department and OSM maintain the position that it is confusing to allow inoperative provisions to remain in the Federal regulations. However, at the close of the comment period, OSM received several comments on the direct final rule that may be considered significant adverse comments. OSM has determined that the effective date of the direct final rule should be delayed by 60 days to allow it additional time to review and consider whether one or more of the comments received on the direct final rule are significant adverse comments warranting a response, withdrawal, or modification of the final rule.

Lanny E. Erdos,
Acting Assistant Secretary, Land and Minerals Management.

[FR Doc. 2026-01569 Filed 1-26-26; 8:45 am]

BILLING CODE 4310-05-P